DEPARTMENT OF STATE

[Public Notice No. 3315]

Secretary of State's Advisory Committee on Private International Law; Notice of Declaration of Foreign Countries as Reciprocating Countries for the Enforcement of Family Support (Maintenance) Obligations

AGENCY: Office of the Legal Adviser, U.S. Department of State.

Section 459A of the Social Security Act (42 U.S.C. 659A) authorizes the Secretary of State with the concurrence of the Secretary of Health and Human Services to declare foreign countries or their political subdivisions to be reciprocating countries for the purpose of the enforcement of family support obligations if the country has established or has undertaken to establish procedures for the establishment and enforcement of duties of support for residents of the United States. These procedures must be in substantial conformity with mandatory elements set out in the statute: procedures for the establishment of paternity and support orders for children and custodial parents; a system for the enforcement of orders, including procedures for the collection and distribution of payments under such orders; providing administrative and legal services without cost to the U.S. applicant; and the designation of an agency to serve as a central authority.

Once such a declaration is made, support agencies in jurisdictions of the United States participating in the program established by Title IV-D of the Social Security Act (the IV-D program) must provide enforcement services under that program to such reciprocating countries as if the request for service came from a U.S. state.

The declarations authorized by the statute may be made “in the form of an international agreement, in connection with an international agreement or corresponding foreign declaration, or on a unilateral basis.” The Secretary of State has authorized either the Legal Adviser or the Assistant Secretary for Consular Affairs to make such a declaration after consultation with the other.

As of this date, the following countries have been designated foreign reciprocating countries by such a declaration and a corresponding declaration from the foreign country.

Country | Effective date
Ireland | September 10, 1997.
Slovak Republic | February 1, 1998.
The Canadian Province of Nova Scotia | May 14, 1999.
Poland | June 14, 1999.
British Columbia | April 21, 2000.
Manitoba | April 21, 2000.

Information

Each of these countries has designated a Central Authority to facilitate enforcement and ensure compliance with the standards of the statute. Information relating to these agreements, the designated Central Authorities, and the procedures for processing requests may be obtained from the United States Central Authority in the Department of Health and Human Services by contacting Stephen Grant, International Child Support Officer, Office of Child Support Enforcement (OCSE), 370 L'Enfant Promenade SW, 4 Aerospace Building, Washington, DC 20447, phone (202) 260-5943, fax (202) 401-5539, email “sgrant@acf.dhhs.gov”.

Questions regarding this notice, the status of negotiations and agreements may be obtained by contacting the office of the Assistant Legal Adviser for Private International Law, South Building, Suite 203, 2430 E Street, NW, Washington, DC 20037-2800; phone (202) 776-8420, fax (202) 776-8482, “email pildb@his.com” or (415) 703-5890, fax (415) 703-1234.

The statute also permits individual states to establish or continue existing reciprocal arrangements with foreign countries when there has been no federal declaration. Many states have such arrangements with additional countries not yet the subject of a federal declaration. Information as to these arrangements may be obtained from the individual state IV-D Agency.

Jeffrey D. Kovar,
Assistant Legal Adviser for Private International Law, Department of State.

[FR Doc. 00-12661 Filed 5-18-00; 8:45 am]

BILLING CODE 4710-08-P